DEPARTMENT OF HOMELAND SECURITY

[Docket No. DHS-2008-0197]

Science and Technology (S&T) Directorate; Submission for Review; Information Collection Request for the DHS S&T Project 25 (P25) Compliance Assessment Program (CAP)

AGENCY: Science and Technology Directorate, DHS.

ACTION: 30-day notice and request for comment.

SUMMARY: The Department of Homeland Security (DHS) invites the general public to comment on a new data collection form for the DHS Science and Technology Directorate's Project 25 (P25) Compliance Assessment Program (CAP): SUPPLIER'S DECLARATION OF COMPLIANCE (SDoC) (DHS Form 10044) and SUMMARY TEST REPORT (DHS Form 10056). The attacks of September 11, 2001, and the destruction of Hurricane Katrina made apparent the need for emergency response radio systems that can interoperate, regardless of which organization manufactured the equipment. In response, and per congressional direction, DHS and the National Institute of Standards and Technology (NIST) developed the P25 CAP to improve the emergency response community's confidence in purchasing land mobile radio (LMR) equipment built to P25 LMR standards. The P25 CAP establishes a process for ensuring that equipment complies with P25 standards and is capable of interoperating across manufacturers.

The Department of Homeland Security needs to be able to collect essential information from manufacturers on their products that have met P25 standards as demonstrated through the P25 CAP. Equipment suppliers will provide information to publicly attest to their products' compliance with a specific set of P25 standards. Accompanied by a Summary Test Report that substantiates this declaration, the SDoC constitutes a company's formal, public attestation of compliance with the standards for the equipment. In providing this information, companies will consent making this information public. In turn, the emergency response community will use this information to identify P25-compliant communications systems.

The P25 CAP Program Manager will perform a simple administrative review to ensure the documentation is complete and accurate in accordance with the current P25 CAP processes. This notice and request for comments is required by the Paperwork Reduction Act of 1995 (Pub. L. 104-13, 44 U.S.C. chapter 35).

DATES: Comments are encouraged and will be accepted until January 16, 2009.

ADDRESSES: Interested persons are invited to submit written comments on the proposed information collection to the Office of Information and Regulatory Affairs, Office of Management and Budget. Comments should be addressed to Desk Officer for the Department of Homeland Security, Science & Technology Directorate, and sent via electronic mail to oira_submission@omb.eop.gov or faxed to (202) 395-6974. Please include docket number [DHS-2008-0197] in the subject line of the message.

FOR FURTHER INFORMATION CONTACT: Michael Bowerbank, 202-254-6895.

SUPPLEMENTARY INFORMATION: The SDoC and Summary Test Report forms will be posted on the SAFECOM Web site at http://www.safecomprogram.gov/SAFECOM/currentprojects/project25cap/. The forms will be available in Adobe PDF format. The supplier may complete the forms electronically or by hand. The completed forms may then be submitted via fax, e-mail, or mail to the Office for Interoperability and Compatibility P25 CAP Program Manager.

Overview of Information Collection

(1) Type of Information Collection: New information collection.

(2) Title of the Form/Collection: Project 25 Compliance Assessment Program.

Agency Form Number, if any, and the applicable component of the Department of Homeland Security sponsoring the collection: DHS Science & Technology Directorate, DHS Form 10044 (04/08) and DHS Form 10059 (09/08).

(3) Affected public who will be asked or required to respond, as well as a brief abstract: Businesses; the data will be gathered from manufacturers of radio systems who wish to declare that their products are compliant with P25 standards for radio systems.

(4) An estimate of the total number of respondents and the amount of time estimated for an average respondent to respond:

a. Estimate of the total number of respondents: 10.

b. An estimate of the time for an average respondent to respond: 2.0 burden hours.

Dated: December 9, 2008.
Kenneth D. Rogers,
Chief Information Officer, Science and Technology Directorate, Department of Homeland Security.

[FR Doc. E8-29818 Filed 12-16-08; 8:45 am]

BILLING CODE 4410-10-P